DEPARTMENT OF AGRICULTURE

Rural Housing Service

Notice of Intent To Give Fourth Funding Priority to Loan Application Packages Received via an Intermediary Under the Certified Loan Application Packaging Process Within the Section 502 Direct Single Family Housing Program

AGENCY: Rural Housing Service, USDA.

ACTION: Notice.

SUMMARY: On May 19, 2016, the final rule for the certified loan application packaging process for the direct single family housing loan program became effective. See 80 FR 23673 (April 29, 2015) and 81 FR 8389 (February 19, 2016). The Administrator has the ability to temporarily reclassify applications received through the certified loan application packaging process as fourth funding priority when funds are insufficient to serve all program-eligible applicants, when determined appropriate. See 7 CFR 3550.55(c)(5).

In accordance with this regulatory allowance, the Administrator will grant fourth funding priority to loan application packages received via an Agency-approved intermediary when funds are insufficient to serve all program-eligible applicants. This reclassification will remain in effect until further notice via Federal Register notice. This reclassification does not apply to certified packaging bodies working without an intermediary.

DATES: This funding priority reclassification for loan application packages received via an Agency-approved intermediary is effective on September 27, 2016.

FOR FURTHER INFORMATION CONTACT: Tammy Repine, Finance and Loan Analyst, Single Family Housing Direct Loan Division, USDA Rural Development, 3625 93rd Avenue SW., Olympia, Washington 98512, Telephone: 360-753-7677. Email: tammy.repine@wdc.usda.gov.

SUPPLEMENTARY INFORMATION: This action is deemed appropriate since the activities performed by the Agency-approved intermediaries (e.g. quality assurance reviews on packaged loan applications; recruitment of certified packaging bodies; and supplemental training, technical assistance, and support to certified packaging bodies) enhance the work and goals of the Agency and benefit the low- and very low-income people who wish to achieve homeownership in rural areas by increasing awareness of the Agency's housing program, increasing specialized support available to complete the application for assistance, and improving the quality of loan application packages.

USDA Nondiscrimination Statement

In accordance with Federal civil rights law and U.S. Department of Agriculture (USDA) civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at http://www.ascr.usda.gov/complaint_filing_cust.html and at any USDA office or write a letter addressed to USDA and provide in the letter all of the information requested in the form. To request a copy of the complaint form, call (866) 632-9992. Submit your completed form or letter to USDA by:

(1) Mail: U.S. Department of Agriculture, Office of the Assistant Secretary for Civil Rights, 1400 Independence Avenue SW. 4, Washington, DC 20250-9410;

(2) fax: (202) 690-7442; or

(3) email: program.intake@usda.gov.

USDA is an equal opportunity provider, employer, and lender.

Dated: September 15, 2016.
Tony Hernandez,
Administrator, Rural Housing Service.

[FR Doc. 2016-23218 Filed 9-26-16; 8:45 am]

BILLING CODE 3410-XV-P